DEPARTMENT OF THE TREASURY

Submission for OMB Review; Comment Request

October 23, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before November 29, 2001 to be assured of consideration.

Internal Revenue Service (IRS)

OMB Number: 1545-1349.

Form Number: None.

Type of Review: Extension.

Title: Cognitive and Psychological Research.

Description: The proposed research will improve the quality of the data collection by examining the psychological and cognitive aspects of methods and procedures such as: interviewing processes, forms redesign, survey and tax collection technology and operating procedures (internal and external in nature).

Respondents: Individuals or households, Business or other for-profit.

Estimated Number of Respondents: 30,000.

Estimated Burden Hours Per Respondent: 35 minutes.

Frequency of Response: Other (one-time only).

Estimated Total Reporting Burden: 17,500 hours.

OMB Number: 1545-1351.

Form Number: None.

Type of Review: Extension.

Title: Statistics of Income (SOI) Corporate Survey.

Description: This is a request to conduct a yearly survey on a small portion of the very largest U.S. corporations. The data will be used to improve the quality of the Statistics of Income's (SOI) advance tax data. The survey will allow SOI to collect existing tax information earlier than regular IRS processing currently allows. Advance tax data has been requested by the Bureau of Economic Analysis, the Office of Tax Analysis, the Office of Tax Analysis and the Joint Committee on Taxation for tax analysis purposes.

Respondents: Business or other for-profit.

Estimated Number of Respondents: 175.

Estimated Burden Hours Per Respondent: 30 minutes.

Frequency of Response: Annually.

Estimated Total Reporting Burden: 88 hours.

OMB Number: 1545-1462.

Regulation Project Number: PS-268-82 Final.

Type of Review: Extension.

Title: Definitions Under Subchapter S of the Internal Revenue Code.

Description: The regulations provide definitions and special rules under Code section 1377 which affect S corporations and their shareholders.

Respondents: Business or other for-profit, Individuals or households.

Estimated Number of Respondents: 4,000.

Estimated Burden Hours Per Respondent: 15 minutes.

Frequency of Response: On occasion, Other (once).

Estimated Total Reporting Burden: 1,000 hours.

Clearance Officer: Garrick Shear, Internal Revenue Service, Room 5244, 1111 Constitution Avenue, NW., Washington, DC 20224.

OMB Reviewer: Alexander T. Hunt, (202) 395-7860, Office of Management and Budget, Room 10202, New Executive Office Building, Washington, DC 20503.

Lois K. Holland,
Departmental Reports, Management Officer.

[FR Doc. 01-27271 Filed 10-29-01; 8:45 am]

BILLING CODE 4830-01-P